FEDERAL COMMUNICATIONS COMMISSION

[DA 13-28]

Emergency Access Advisory Committee; Announcement of Charter Extension

AGENCY: Federal Communications Commission.

ACTION: Notice.

SUMMARY: This document announces the extension of the charter of the Emergency Access Advisory Committee (Committee or EAAC). This extension of the charter will enable the EAAC to complete the important work it began in early 2011 pursuant to the Twenty-First Century Communications and Video Accessibility Act of 2010 (CVAA).

DATES: The EAAC charter is now effective until June 14, 2013.

FOR FURTHER INFORMATION CONTACT: Suzy Rosen Singleton, Consumer and Governmental Affairs Bureau, (202) 810-1503, or Suzanne.Singleton@fcc.gov (email); and/or Zenji Nakazawa, Public Safety and Homeland Security Bureau, (202) 418-7949, Zenji.Nakazawa@fcc.gov (email).

SUPPLEMENTARY INFORMATION: By releasing the Public Notice (DA 13-28), the Consumer and Governmental Affairs Bureau and the Public Safety and Homeland Security Bureau of the Federal Communications Commission (FCC or Commission) extended the charter of the EAAC by six months until June 14, 2013. This extension of the charter will enable the EAAC to complete the important work it began in early 2011 pursuant to the CVAA.

The EAAC was chartered on January 14, 2011 to determine the most effective and efficient technologies and methods by which to enable equal access to emergency services by individuals with disabilities as part of our nation's migration to Next Generation 911 (NG9-1-1), and to make recommendations to the Commission on how to achieve those effective and efficient technologies and methods. In spring 2011, the EAAC conducted a nationwide survey of individuals with disabilities and released a report on that survey on July 21, 2011. Following release of the survey report, the EAAC developed recommendations, which it submitted to the Commission on December 7, 2011, as required by the CVAA. However, the EAAC clarified that the December 2011 recommendations did not constitute the full report and requested additional editorial privileges and the right to submit a full report that will contain the technical and policy background for these recommendations at a later date. The EAAC subsequently formed subcommittees to further explain in detail its initial recommendations related to interoperability testing, language assistance, gaps in existing public safety standards, timelines for deployment and pre-NG 911 mobile text-to-911 solutions.

The EAAC Charter provides that the EAAC shall terminate two years from the date of the Charter, thus expiring on January 14, 2013. The Commission has received requests from the co-chairs of the EAAC, the Consumers Group and Gallaudet Technology Access Program, the National Emergency Number Association, and APCO International to extend or renew the Charter to allow the EAAC to complete its reports and recommendations regarding the accessibility of emergency access by people with disabilities. Accordingly, by releasing the Public Notice on January 11, 2013 (DA-28), the Consumer and Governmental Affairs Bureau and the Public Safety and Homeland Security Bureau grant these requests, and provide a six-month extension of the Charter in order to ensure the EAAC has sufficient time to complete its work, pursuant to the CVAA. The Charter is hereby effective until June 14, 2013.

To request materials in accessible formats for people with disabilities (Braille, large print, electronic files, audio format), send an email to fcc504@fcc.gov or call the Consumer and Governmental Affairs Bureau at (202) 418-0530 (voice), (202) 418-0432 (TTY).

Federal Communications Commission.
Karen Peltz Strauss,
Deputy Chief, Consumer and Governmental Affairs Bureau.

[FR Doc. 2013-01325 Filed 1-23-13; 8:45 am]

BILLING CODE 6712-01-P